DEPARTMENT OF HEALTH AND HUMAN SERVICES

Health Resources and Services Administration

Charter Renewal for the Advisory Committee on Organ Transplantation

AGENCY: Health Resources and Services Administration (HRSA), Department of Health and Human Services (HHS).

ACTION: Notice.

SUMMARY: In accordance with the Federal Advisory Committee Act (FACA), HHS is hereby giving notice that the Advisory Committee on Organ Transplantation (ACOT) has been renewed. The effective date of the renewed charter is August 31, 2020.

FOR FURTHER INFORMATION CONTACT: Robert Walsh, Designated Federal Officer, HRSA Division of Transplantation, Healthcare Systems Bureau, HRSA, 5600 Fishers Lane, Room 08W60, Rockville, Maryland 20857; 301-443-6839; or rwalsh@hrsa.gov.

SUPPLEMENTARY INFORMATION: The ACOT provides advice and recommendations to the Secretary of HHS (Secretary) on all aspects of organ donation, procurement, allocation, and transplantation, and on such other matters that the Secretary determines. ACOT is authorized by 42 U.S.C. 217a; Section 222 of the Public Health Service Act, as amended; 42 CFR 121.12.

The Committee is governed by provisions of the FACA, Public Law 92-463 (5 U.S.C. App. 2), which sets forth standards for the formation of advisory committees. The recommendations of the ACOT inform HHS programs and activities to support organ donation and transplantation. ACOT's recent recommendations in support of expanding reimbursement of living organ donor expenses were cited as a key part of the rationale for recent proposed HHS actions to expand this activity consistent with the President's Executive Order on Advancing American Kidney Health. The charter renewal for the ACOT was approved on August 31, 2020, which will also stand as the filing date. Renewal of the ACOT charter gives authorization for the committee to operate until August 31, 2022.

A copy of the ACOT charter is available on the ACOT website at https://www.organdonor.gov/about-dot/acot.html. A copy of the charter also can be obtained by accessing the FACA database that is maintained by the Committee Management Secretariat under the General Services Administration. The website address for the FACA database is http://www.facadatabase.gov/.

Maria G. Button,
Director, Executive Secretariat.

[FR Doc. 2020-19644 Filed 9-3-20; 8:45 am]

BILLING CODE 4165-15-P